COMMITTEE FOR PURCHASE FROM PEOPLE WHO ARE BLIND OR SEVERELY DISABLED

Procurement List Additions

AGENCY: Committee for Purchase From People Who Are Blind or Severely Disabled.

ACTION: Additions to the Procurement List.

SUMMARY: This action adds to the Procurement List products and services to be furnished by nonprofit agencies employing persons who are blind or have other severe disabilities.

DATES: Effective Date: September 9, 2007.

ADDRESSES: Committee for Purchase From People Who Are Blind or Severely Disabled, Jefferson Plaza 2, Suite 10800, 1421 Jefferson Davis Highway, Arlington, Virginia 22202-3259.

FOR FURTHER INFORMATION CONTACT: Kimberly M. Zeich, Telephone: (703) 603-7740, Fax: (703) 603-0655, or e-mail CMTEFedReg@jwod.gov.

SUPPLEMENTARY INFORMATION: On May 11, June 8 and June 15, 2007, the Committee for Purchase From People Who Are Blind or Severely Disabled published notice (72 FR 26779; 31805; 33200) of proposed additions to the Procurement List.

After consideration of the material presented to it concerning capability of qualified nonprofit agencies to provide the products and services and impact of the additions on the current or most recent contractors, the Committee has determined that the products and services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 46-48c) in connection with the products and services proposed for addition to the Procurement List.

End of Certification

Accordingly, the following products and services are added to the Procurement List:

Products

File, Folder, Classification

NSN: 7530-00-NIB-0816—Dark Green, Letter Size

NSN: 7530-00-NIB-0817—Light Blue, Letter Size

NSN: 7530-00-NIB-0818—Dark Blue, Letter Size

NSN: 7530-00-NIB-0819—Yellow, Letter Size

NSN: 7530-00-NIB-0820—Dark Red, Letter Size

NSN: 7530-00-NIB-0821—Earth Red, Letter Size

NPA: Georgia Industries for the Blind, Bainbridge, GA

Inkjet Printer Cartridge

NSN: 7510-00-NIB-0780—compatible with Canon Part No. BCI-3ePC/6PC. Cyan

NSN: 7510-00-NIB-0781—compatible with Canon Part No. BCI-3ePM/6PM. Magenta

NSN: 7510-00-NIB-0782—compatible with Canon Part No. BCI-15BK. Black

NSN: 7510-00-NIB-0783—compatible with Canon Part No. BCI-21/24CL. Tri-color

NSN: 7510-00-NIB-0784—compatible with Epson Part No. T018201. Tri-color

NSN: 7510-00-NIB-0785—compatible with Epson Part No. T029201. Tri-color

NSN: 7510-00-NIB-0786—compatible with Epson Part No. T041020. Tri-color

NSN: 7510-00-NIB-0787—compatible with Epson Part No. T044120. Black

NSN: 7510-00-NIB-0788—compatible with Epson Part No. T044220. Cyan

NSN: 7510-00-NIB-0789—compatible with Epson Part No. T044320. Magenta

NSN: 7510-00-NIB-0790—compatible with Epson Part No. T044420. Yellow

NSN: 7510-00-NIB-0791—compatible with Epson Stylus Part No. T048120. Black

NSN: 7510-00-NIB-0792—compatible with Epson Part No. T048220. Cyan

NSN: 7510-00-NIB-0793—compatible with Epson Part No. T048320. Magenta

NSN: 7510-00-NIB-0794—compatible with Epson Part No. T048420. Yellow

NSN: 7510-00-NIB-0795—compatible with Epson Part No. T048520. Light Cyan

NSN: 7510-00-NIB-0796—compatible with Epson Part No. T048620. Light Magenta

NPA: Alabama Industries for the Blind, Talladega, AL

Dry Erase, Starter Kit

NSN: 7520-00-NIB-1158—Dry Erase Starter Kit.

NPA: Dallas Lighthouse for the Blind, Inc., Dallas, TX.

Coverage: 100%—A-List—for the total Government requirement as specified by the General Services Administration.

Contracting Activity: General Services Administration, Region 2, Office Supplies & Paper Products Acquisition Ctr, New York, NY.

Street Broom

NSN: 7920-00-NIB-0461—Street Broom.

NPA: New York City Industries for the Blind, Inc., Brooklyn, NY.

Coverage: B-List—for the broad Government requirement as specified by the General Services Administration.

Contracting Activity: General Services Administration, Southwest Supply Center, Fort Worth, TX.

Services

Service Type/Location: Custodial Services, David W. Dyer Federal Building & Courthouse, 300 NE First Ave., Miami, FL.

U.S. Courthouse, 301 North Miami Ave., Miami, FL.

NPA: Goodwill Industries of South Florida, Inc., Miami, FL.

Contracting Activity: General Services Administration, Public Building Service, Atlanta, GA.

Service Type/Location: Document Destruction, Internal Revenue Service, 208 Sunset Drive, Johnson City, TN.

NPA: Goodwill Industries—Knoxville, Inc., Knoxville, TN.

Contracting Activity: U.S. Department of Treasury, Internal Revenue Service, Chamblee, GA.

Service Type/Location: Grounds Maintenance, San Juan Customhouse, #1 La Puntilla Street, San Juan, PR.

NPA: The Corporate Source, Inc., New York, NY.

Contracting Activity: Department of Homeland Security, U.S. Customs and Border Protection, Indianapolis, IN.

Service Type/Location: Mailing Services (Pharmacy), VISN-19 Eastern Colorado Health Care System (ECHCS), 1055 Clermont Street, Denver, CO.

NPA: Jewish Family Service of Colorado, Denver, CO.

Contracting Activity: VISN-19 Eastern Colorado Health Care System (ECHCS), Glendale, CO.

This action does not affect curren t contracts awarded prior to the effective date of this addition or options that may be exercised under those contracts.

Kimberly M. Zeich,
Director, Program Operations.

[FR Doc. E7-15668 Filed 8-9-07; 8:45 am]

BILLING CODE 6353-01-P